DEPARTMENT OF COMMERCE

National Oceanic and Atmospheric Administration

[RTID 0648-XB818]

Endangered and Threatened Species; Take of Anadromous Fish

AGENCY: National Marine Fisheries Service (NMFS), National Oceanic and Atmospheric Administration (NOAA), Department of Commerce.

ACTION: Notice; availability of a Proposed Evaluation and Pending Determination for public comment.

SUMMARY: Notice is hereby given that NMFS has received seven plans for hatchery programs rearing and releasing Chinook salmon, coho salmon, and chum salmon in the Snohomish River basin. The plans describe hatchery programs operated by the Tulalip Tribes and Washington Department of Fish and Wildlife (WDFW). This document serves to notify the public of the availability and opportunity to comment on a Proposed Evaluation and Determination Documents (PEPD) on the proposed hatchery programs.

DATES: Comments must be received at the appropriate address (see ADDRESSES) no later than 5 p.m. Pacific time on April 4, 2022. Comments received after this date may not be considered.

ADDRESSES: Comments may be submitted by email. The mailbox address for providing email comments is: Hatcheries.Public.Comment@noaa.gov. Include in the subject line of the email comment the following identifier: Comments on Snohomish River hatchery programs. The document available for public comment are available on the internet at https://www.fisheries.noaa.gov/action/hatchery-plans-chinook-coho-and-chum-salmon-snohomish-river-basin.

FOR FURTHER INFORMATION CONTACT: Morgan Robinson at (253) 307-2670 or by email at morgan.robinson@noaa.gov.

SUPPLEMENTARY INFORMATION:

ESA-Listed Species Covered in This Notice

• Puget Sound Chinook salmon (Oncorhynchus tshawytscha): Threatened, naturally and artificially propagated.

• Puget Sound Steelhead (O. mykiss): Threatened, naturally and artificially propagated.

Background

The term “take” is defined under the ESA to mean harass, harm, pursue, hunt, shoot, wound, kill, trap, capture, or collect, or to attempt to engage in any such conduct. The ESA prohibits the take of endangered salmonids and, pursuant to ESA section 4(d), ESA regulations can be extended to prohibit the take of threatened salmonids. However, NMFS may make exceptions to the take prohibitions for hatchery programs that are approved by NMFS under the limits on the prohibitions outlined in 50 CFR 223.203(b). The operators, including the Tulalip Tribes and WDFW, have submitted HGMPs to NMFS pursuant to NMFS' limit six of the 4(d) Rule of the ESA for hatchery activities in the Snohomish River basin, Washington.

The hatchery programs are designed to contribute to the survival and recovery of Skykomish River summer Chinook salmon and Skykomish River chum salmon. These hatchery programs are intended to contribute to fulfilling federal tribal trust responsibilities and treaty rights guaranteed through treaties and affirmed in U.S. v. Washington (1974) by enhancing fishing opportunities for Chinook, coho, and chum salmon. Included in these hatchery plans is research and monitoring activities to study the effect of these programs on the recovery of Puget Sound Chinook salmon and steelhead.

Authority: 16 U.S.C. 1531 et seq.; 16 U.S.C. 742a et seq.

Dated: February 28, 2022.
Angela Somma,
Chief, Endangered Species Conservation Division, Office of Protected Resources, National Marine Fisheries Service.

[FR Doc. 2022-04516 Filed 3-2-22; 8:45 am]

BILLING CODE 3510-22-P